DEPARTMENT OF COMMERCE

National Oceanic and Atmospheric Administration

[I.D. 032105B]

U.S. Climate Change Science Program Synthesis and Assessment Product Prospectus 4.7

AGENCY: National Oceanic and Atmospheric Administration (NOAA), Department of Commerce.

ACTION: Notice of availability; request for public comments.

SUMMARY: NOAA publishes this notice to announce the availability of the draft Prospectus for U.S. Climate Change Science Program (CCSP) Synthesis and Assessment Product 4.7-Impacts of Climate Change and Variability on Transportation Systems and Infrastructure: Gulf Coast Study-for public comment. After consideration of comments received on the draft Prospectus, the final Prospectus along with the comments received will be published on the CCSP web site.

DATES: Comments must be received by May 5, 2005.

ADDRESSES: The draft Prospectus is posted on the CCSP Office web site at: http://www.climatescience.gov/Library/sap/sap4-7/sap4-7prospectus-draft.htm. Detailed instructions for making comments on the draft Prospectus are provided at http://www.climatescience.gov/Library/sap/sap4-7/comments-prospectus.htm. Comments should be prepared in accordance with these instructions.

FOR FURTHER INFORMATION CONTACT: Richard H. Moss, Ph.D., Director, Climate Change Science Program Office, 1717 Pennsylvania Avenue NW, Suite 250, Washington, DC 20006, telephone: (202) 419-3476.

SUPPLEMENTARY INFORMATION: The CCSP was established by the President in 2002 to coordinate and integrate scientific research on global change and climate change sponsored by 13 participating departments and agencies of the U.S. Government. The CCSP is charged with preparing information resources that support climate-related discussions and decisions, including scientific synthesis and assessment analyses that support the evaluation of important policy issues. The Prospectus addressed by this notice provides a topical overview and describes plans for scoping, drafting, reviewing, producing, and disseminating one of 21 final synthesis and assessment Products that will be generated by the CCSP.

Dated: March 30, 2005.
James R. Mahoney,
Assistant Secretary of Commerce for Oceans and Atmosphere Director, Climate Change Science Program.

[FR Doc. 05-6713 Filed 4-4-05;8:45 am]

BILLING CODE 3510-12-S